DEPARTMENT OF COMMERCE

National Oceanic and Atmospheric Administration

50 CFR Part 648

[Docket No. 240805-0212]

RIN 0648-BN01

Fisheries of the Northeastern United States; Framework Adjustment 15 to the Monkfish Fishery Management Plan; Framework Adjustment 6 to the Spiny Dogfish Fishery Management Plan

AGENCY: National Marine Fisheries Service (NMFS), National Oceanic and Atmospheric Administration (NOAA), Commerce.

ACTION: Proposed rule; request for comments.

SUMMARY: NMFS is proposing to approve, and implement through regulations, measures included in Framework Adjustment 15 to the Monkfish Fishery Management Plan/Framework Adjustment 6 to the Spiny Dogfish Fishery Management Plan, which the New England and Mid-Atlantic Fishery Management Councils jointly adopted and submitted to NMFS for approval. This action would establish area-based gear requirements for vessels fishing in the monkfish and spiny dogfish fisheries with gillnets in order to reduce bycatch of Atlantic sturgeon in these fisheries. This action is necessary to minimize bycatch of Atlantic sturgeon in the monkfish and spiny dogfish fisheries to the extent practicable and fulfill requirements of the Biological Opinion on Ten Fishery Management Plans in the Greater Atlantic Region and the New England Fishery Management Council's Omnibus Habitat Amendment 2.

DATES: Public comments must be received by September 11, 2024.

ADDRESSES: You may submit comments on this document, identified by NOAA-NMFS-2024-0082, by the following method:

• Electronic Submission: Submit all electronic public comments via the Federal e-Rulemaking Portal. Go to https://www.regulations.gov and type NOAA-NMFS-2024-0082 in the Search Box (note: copying and pasting the FDMS Docket Number directly from this document may not yield search results). Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of the Framework 15/Framework 6 document, including the Regulatory Flexibility Act Analysis and other supporting documents for the measures, are available from Cate O'Keefe, Executive Director, New England Fishery Management Council, 50 Water Street, Mill 2, Newburyport, MA 01950 and Chris Moore, Executive Director, Mid-Atlantic Fishery Management Council, 800 North State Street, Suite 201, Dover, DE 19901. The Framework 15/Framework 6 document is also accessible via the internet at: https://www.nefmc.org/management-plans/monkfish or https://www.mafmc.org/dogfish.

FOR FURTHER INFORMATION CONTACT: Spencer Talmage, Fishery Policy Analyst, (978) 281-9232.

SUPPLEMENTARY INFORMATION:

Background

The New England Fishery Management Council (New England Council) and the Mid-Atlantic Fishery Management Council (Mid-Atlantic Council) (collectively, the Councils) jointly manage the Monkfish and Spiny Dogfish Fishery Management Plans (FMPs). The New England Council is the administrative lead for the Monkfish FMP, while the Mid-Atlantic Council is the lead for the Dogfish FMP.

NMFS issued a Biological Opinion on May 27, 2021, that considered the effects of the authorization of two interstate fishery management plans (ISFMP) and eight Federal FMPs, including the Monkfish and Spiny Dogfish FMPs, on Endangered Species Act (ESA)-listed species and designated critical habitat through a formal Section 7 consultation. The Biological Opinion determined that NMFS's authorization of the eight FMPs and two ISFMPs may adversely affect, but is not likely to jeopardize, Atlantic sturgeon. The Biological Opinion included an Incidental Take Statement and Reasonable and Prudent Measures (RPM) with accompanying Terms and Conditions to minimize the impacts of incidental take of Atlantic sturgeon. The RPMs required that NMFS convene a working group to review all of the available information on Atlantic sturgeon bycatch in the federally permitted large-mesh gillnet fisheries and, by May 27, 2022, develop an Action Plan to reduce Atlantic sturgeon bycatch in these fisheries by 2024.

NMFS initially issued the Action Plan on May 26, 2022, and revised it on September 26, 2022 to incorporate feedback from the Councils and public. The Councils subsequently developed this joint framework action—Framework 15 to the Monkfish FMP and Framework 6 to the Dogfish FMP—to address the recommendations of the Action Plan and fulfill the requirements of the Biological Opinion. This Joint Framework would establish the New Jersey Atlantic Sturgeon Bycatch Reduction Area, the Delaware and Maryland Atlantic Sturgeon Bycatch Reduction Area, and the Virginia Atlantic Sturgeon Bycatch Reduction Area (collectively, the Atlantic Sturgeon Bycatch Reduction Areas). Within these areas, the Joint Framework would:

• Require vessels fishing on a monkfish day-at-sea (DAS) within the New Jersey Atlantic Sturgeon Bycatch Reduction Area to use low-profile gillnet gear, beginning on January 1, 2026;

• Prohibit dogfish vessels fishing in the New Jersey Atlantic Sturgeon Bycatch Reduction Area from leaving gillnet gear in the water overnight during the months of May and November, effective 30 days from publication of the Final Rule; and

• Prohibit dogfish vessels fishing in the Delaware and Maryland Atlantic Sturgeon Bycatch Reduction Area and Virginia Atlantic Sturgeon Bycatch Reduction Area from leaving gillnet gear in the water overnight from November through March, effective 30 days from the publication of the Final Rule.

Proposed Measures

1. Atlantic Sturgeon Bycatch Reduction Areas

The measures being proposed in this Joint Framework Action are a set of area based-gear restrictions. To determine the location and spatial extent of “hot spots” where area-based gear restrictions would apply to the monkfish and spiny dogfish fisheries, observer data from these fisheries were summed across the years 2017-2019 and 2021-2022 (due to the COVID-19 pandemic, there were very few observed trips in 2020). These observer data were stratified into squares, with each side being 10 minutes latitude or longitude. Boundary lines for the Atlantic Sturgeon Bycatch Reduction Areas were drawn such that the entirety of squares with the highest levels of observed bycatch of Atlantic sturgeon were completely encompassed by the area with a buffer of one mile (1.6 km), and squares of lower levels of Atlantic sturgeon bycatch were partially encompassed by the area being drawn in a manner that overlapped with observed Atlantic sturgeon bycatch on the edges of the hot spot area. The boundaries of these areas closest to the shoreline were clipped to the shore in order to extend the area requirements into state waters, where sturgeon are expected to be present. Offshore latitude and longitude points that comprised the resulting polygons were rounded to the nearest 0.05 or 0.1 of a minute to improve ease of compliance and enforcement.

Four distinct areas were identified via this methodology: One off the coast of Rhode Island/Southern New England; one off the coast of New Jersey; and two off the coasts of Delaware, Maryland, and Virginia. This action proposes gear requirements that would be in place within the New Jersey Atlantic Sturgeon Bycatch Reduction Area, the Delaware and Maryland Atlantic Sturgeon Bycatch Reduction Area, and the Virginia Atlantic Sturgeon Bycatch Reduction Area. No measures are being proposed for the area off the coast of Rhode Island/Southern New England.

2. Low-Profile Gillnet Gear

This framework action would require vessels fishing on a Monkfish DAS within the New Jersey Atlantic Sturgeon Bycatch Reduction Area that are using large mesh (i.e., greater than or equal to 10 inches (25.4 centimeters (cm)) to use low-profile gillnet gear. Low-profile gillnet gear is defined by the Councils as having:

• Mesh size ranging from 12 to 13 inches (30.48 to 33.02 cm);

• Net height ranging from 6 to 8 meshes tall;

• Net length of 300 feet (91.44 meters (m));

• Tie-down length of less than or equal to 30 inches (76.2 cm);

• Tie-down spacing of 12 feet (3.66 m);

• Primary hanging ratio of 0.50;

• Twine size of 0.81 millimeters (mm); and

• Tie downs at every float to keep the float line down.

These characteristics are intended to reduce interaction with Atlantic sturgeon by reducing the likelihood that Atlantic sturgeon high in the water column will become entangled, by allowing smaller sturgeon to swim through the larger mesh and allowing the larger sturgeon to break the mesh.

The proposed requirement to use low-profile gillnet gear within the New Jersey Atlantic Sturgeon Bycatch Reduction Area would begin on January 1, 2026, as recommended by the Councils, to allow for the twine size to be considered under Marine Mammal Protection Act (MMPA) provisions and to provide industry time to transition to new gear. The current definition of the low-profile gillnet gear would require a twine size of 0.81 mm; however, this conflicts with current Harbor Porpoise Take Reduction Plan (HPTRP) Regulations, which require that large-mesh gillnet gear in the waters off the New Jersey Management area have a twine size at least 0.9 mm in diameter from January 1 through April 30, except during April 1 through April 20 (50 CFR 229.34(b)(1)(ii)). The Harbor Porpoise Take Reduction Team (HPTRT) has been asked by the Councils to consider whether this requirement could be modified to reduce the twine size required in the HPTRP regulations. The process for making such a change, including the rulemaking process, would be expected to take approximately one year.

The low-profile gillnet design is a new gear configuration for a large majority of the fleet. The transition to the new gear will require construction of new nets, which may take time on the part of gear manufacturers, who are limited in number. Thus, the delay provides industry with the time necessary to acquire and familiarize itself with the new selective gear.

3. Overnight Soak Prohibitions

Within the New Jersey Atlantic Sturgeon Bycatch Reduction Area, this action would require federally permitted spiny dogfish vessels fishing with roundfish gillnets (i.e., not tie-down gillnets) with a mesh size between 5 and 10 inches (12.7 to 25.4 cm) to remove nets from the water by 8:00 p.m. Eastern Time (ET) each day until 5:00 a.m. ET the following day. This requirement would be in place from May 1 through May 31 and November 1 through November 30 of each year. This seasonal requirement is based on observer data showing that, of takes observed from 2017-2019 and 2021-2022, takes by dogfish vessels within the New Jersey Atlantic Sturgeon Bycatch Reduction Area during May and November accounted for a combined 23 percent of all observed takes by dogfish vessels during the time period.

In the Delaware and Maryland Sturgeon Bycatch Area and in the Virginia Atlantic Sturgeon Bycatch Reduction Area, this action would require federally permitted spiny dogfish vessels fishing with roundfish gillnets (i.e., not tie-down gillnets) with a mesh size between 5.25 and 10 inches (13.34 to 25.4 cm) to remove nets from the water by 8:00 p.m. ET each day until 5:00 a.m. ET the following day. This requirement would be in place from November 1 through March 31 each year. This seasonal requirement is based on observer data showing that, of takes observed from 2017-2019 and 2021-2022, takes by dogfish vessels within the Delaware and Maryland Bycatch Reduction Area and in the Virginia Sturgeon Bycatch Reduction Area from November through March accounted for 59 percent of all observed takes by dogfish vessel during the time period.

Implementing an overnight soak restriction for these vessels in the Atlantic Sturgeon Bycatch Reduction Areas during these seasons is expected to reduce the amount of Atlantic sturgeon bycatch, but the amount of that reduction is not certain. Within these areas, the overnight soak prohibitions would effectively restrict the length of time gillnets could be soaked by dogfish vessels to a maximum of 15 hours. Bycatch mortality increases as soak time increases, and this restriction will cap soak time at levels where mortality is lower. As a result, the overnight soak prohibitions and the resulting reduction in overall soak time in the fishery are expected to greatly reduce the mortality of Atlantic sturgeon that are caught in nets within the Atlantic Sturgeon Bycatch Reduction Areas.

Classification

NMFS is issuing this rule pursuant to section 304(b)(1)(A) of the Magnuson-Stevens Fishery Conservation and Management Act (Magnuson-Stevens Act), which provides specific authority for implementing this action. Section 304(b)(1)(A) of the Magnuson-Stevens Act authorizes NMFS to initiate an evaluation of proposed regulations to determine whether they are consistent with the fishery management plan, plan amendments, the Magnuson-Stevens Act and other applicable law, and, if that determination is affirmative, publish the regulations in the Federal Register for public comment.

The NMFS Assistant Administrator has determined that this proposed rule is consistent with the Monkfish and Spiny Dogfish FMPs, other provisions of the Magnuson-Stevens Act, and other applicable law, subject to further consideration after public comment.

This proposed rule has been determined to be not significant for purposes of Executive Order 12866.

Pursuant to the Regulatory Flexibility Act (RFA) (5 U.S.C. 605(b)), the Chief Counsel for Regulation of the Department of Commerce certified to the Chief Counsel for Advocacy of the Small Business Administration (SBA) that this action, if adopted, would not have a significant economic effect on a substantial number of small entities.

As outlined in the preamble of this rule, the purpose of this action is to implement Framework 15 to the Monkfish FMP and Framework 6 to the Spiny Dogfish FMP. This Joint Framework would set area-based gear requirements for vessels fishing in the monkfish and spiny dogfish fisheries with gillnets in order to reduce bycatch of Atlantic sturgeon in these fisheries.

In 2022, there were 1,899 vessels with federal commercial spiny dogfish or monkfish permits. Each vessel may be individually owned or part of a larger corporate ownership structure, and for RFA purposes, it is the ownership entity that is ultimately regulated by the proposed action. Ownership entities are identified on June 1 of each year based on the list of all permit numbers, for the most recent complete calendar year, that have applied for any type of Northeast Federal fishing permit. The current ownership data set is based on calendar year 2022 permits and contains gross sales associated with those permits for calendar years 2020 through 2022. For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates) and has combined annual receipts not in excess of $11 million for all its affiliated operations worldwide. The determination as to whether the entity is large or small is based on the average annual revenue for the five years from 2018 through 2022. There are no effects on for-hire fishing operations, which have a different threshold ($8.0 million).

Ownership data collected from permit holders indicate there are 1,406 distinct business entities that held at least one monkfish and/or dogfish permit that could be directly regulated by this proposed action in 2024. Of these, 197 were primarily for-hire operations, leaving 1,209 as either commercial entities or entities with no 2022 revenue to make such a determination. Entities with no 2022 revenue were considered as potentially-affected commercial entities. Of the 1,209 commercial fishing entities or potentially-affected commercial fishing entities, 1,198 are categorized as small entities and 11 are categorized as large entities, per the NMFS guidelines.

Monkfish Fishery

In the 2020-2022 fishing years, 90-108 federally permitted vessels landed over 10,000 pounds (lb) of monkfish (measured in landed lb), with total monkfish landings ex-vessel revenues averaging $10.7 million (range $8.6-$12.2 million). For an individual vessel or dealer/processor however, monkfish may be a crucial part of their annual operations. Skates, groundfish, and other fish make up a substantial portion of revenues on trips using Monkfish DAS, so the ability to target monkfish also likely facilitates these other revenues as well. As a result, disruptions to targeted monkfish fishing can cause additional revenue losses tied to the other fish that are often retained on monkfish trips.

This action would require the use of a low-profile gillnet within an area off the coast of New Jersey, year-round. This requirement would not be implemented until January 1, 2026, which would provide affected entities the opportunity to prepare for the requirement, principally by purchasing nets that fit the specifications of the new design or by purchasing the materials necessary to build new nets. The cost of a 300 foot (91.44 meter) low-profile net panel is estimated to be $435, and the total costs per vessel will vary depending on the number of nets being replaced. Framework Adjustment 13 to the Monkfish Fishery Management Plan (August 11, 2023, 88 FR 54495) estimated the range in the number of nets per vessel that might be replaced as a result of mesh size changes implemented by that action. Using that range, we estimate that per vessel cost to replace nets will range from $5,655 to $42,630. From 2018 through 2022, there were 22 vessels fishing out of ports in New Jersey that landed at least $1,000 of monkfish. Applying the per vessel costs to a fleet of 22 vessels results in a total fishery cost of $124,410 to $937,860. However, this figure is likely an overestimate because the count of 22 vessels included all ports in New Jersey, some of which will not be in the geographic footprint of the New Jersey Atlantic Sturgeon Bycatch Reduction Area. Additionally, some vessels currently fishing within the footprint of the New Jersey Atlantic Sturgeon Bycatch Reduction Area will choose to relocate their effort once restrictions are in place. Finally, for some, but not all, entities, the timing of the effectiveness of this rule will align with the end of the lifecycle of nets currently in use, so the costs to acquire the new nets would have been incurred regardless of this action for those entities. As a result, these short-term costs are not expected to be significant for the purposes of the RFA.

The gear research that informed the development of this action indicated no significant difference in monkfish catch rates off New Jersey with the proposed gear. As a result, it is not expected that this action would constrain the operations of the directed monkfish fishery compared to recent performance.

Dogfish Fishery

In the 2020-2022 fishing years, 9-87 federally permitted vessels landed over 10,000 lb of spiny dogfish (measured in live lb), with total spiny dogfish landings ex-vessel revenues averaging $2.5 million (range $2.3-$2.7 million). For an individual vessel or dealer/processor however, spiny dogfish may be a crucial part of their annual operations.

This action would seasonally require removal of spiny dogfish gillnets from the water in specified areas off the coast of New Jersey, Delaware, Maryland, and Virginia overnight, from 8:00 p.m. ET to 5:00 a.m. ET each day. Though this would result in some modification of fishing behavior, this restriction is expected to minimally constrain the fishery compared to current practice. As a result, negative impacts, including economic impacts, associated with these measures are expected to be minimal. Both small and large entities firms are likely to be impacted equivalently under the proposed framework action.

Conclusion

Based upon the discussion in the immediately preceding paragraphs, this action is not expected to have a significant economic impact on a substantial number of small entities. Negative impacts to small entities engaged in the monkfish or spiny dogfish fisheries by the proposed action are expected to be minimal, relative to status quo. The number of small entities that are significantly impacted is not substantial, and small entities will not be disproportionately impacted relative to large entities. As a result, an initial regulatory flexibility analysis is not required and none has been prepared.

List of Subjects in 50 CFR Part 648

Fisheries, fishing.

Dated: August 6, 2024.
Samuel D. Rauch III,
Deputy Assistant Administrator for Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

2. Amend § 648.2 by adding in alphabetical order the definition for “low-profile gillnet gear” to read as follows:

§ 648.2 Definitions

* * * * *

Low-profile gillnet gear means monkfish gillnets that are constructed with the following characteristics designed to reduce interaction with Atlantic sturgeon: 12 to 13 inch (30.48 to 33.02 cm) diamond mesh; Net height of 6 to 8 meshes; Net length of 300 feet (91.44 m); Tie-down length less than or equal to 30 inches (76.2 cm); Tie-down spacing of 12 feet (3.66 m); Primary hanging ratio of 0.50 (i.e., the length of webbing is twice that of the length of line used); Twine size of 0.81mm; and the net is tied at every float to keep the float line down.

* * * * *

3. Amend § 648.14 by adding paragraphs (m)(3)(iii) and (s)(2)(iv) to read as follows:

§ 648.14 Prohibitions.

* * * * *

(m) * * *

(3) * * *

(iii) Fail to comply with the New Jersey Atlantic Sturgeon Bycatch Reduction Area requirements specified at § 648.91(d).

* * * * *

(s) * * *

(2) * * *

(iv) Area requirements. Violate the Atlantic Sturgeon Bycatch Reduction Areas requirements specified at § 648.234(a).

* * * * *

4. Amend § 648.91 by adding paragraph (d) to read as follows:

§ 648.91 Monkfish regulated mesh areas and restrictions on gear and methods of fishing.

* * * * *

(d) New Jersey Atlantic Sturgeon Bycatch Reduction Area—(1) Area Definition: The New Jersey Dogfish and Monkfish Atlantic Sturgeon Bycatch Reduction Area is defined by straight lines connecting the following points in the order stated:

Table 1 to Paragraph (d)
Point | N lat. | W long.
NJ1 | 40°24′ | 73°54′
NJ2 | 40°9′ | 73°24′
NJ3 | 39°30′ | 73°51′
NJ4 | 39°48′ | 74°12′
NJ1 | 40°24′ | 73°54′

(2) Restrictions in the New Jersey Atlantic Sturgeon Bycatch Reduction Area. Effective year round beginning on January 1, 2026, vessels may not fish with gillnet gear under a Monkfish DAS within the New Jersey Atlantic Sturgeon Bycatch Reduction Area unless:

(i) A vessel is fishing on a monkfish-only DAS within the MA Exemption Area, defined at § 648.80(c)(5)(ii), with roundfish gillnets with a mesh size between equal to or greater than 5 inches (12.7 cm) and less than 10 inches (25.4 cm).

(ii) A vessel is fishing with low profile gillnet gear, as defined in § 648.2.

5. Add § 648.234 to read as follows:

§ 648.234 Gear restrictions.

(a) New Jersey Atlantic Sturgeon Bycatch Reduction Area. (1) Area Definition: The New Jersey Dogfish and Monkfish Atlantic Sturgeon Bycatch Reduction Area is defined by straight lines connecting the following points in the order stated:

Table 1 to Paragraph (a)
Point | N lat. | W long.
NJ1 | 40°24′ | 73°54′
NJ2 | 40°9′ | 73°24′
NJ3 | 39°30′ | 73°51′
NJ4 | 39°48′ | 74°12′
NJ1 | 40°24′ | 73°54′

(2) From May 1 through May 31 and November 1 through November 30 of each year, vessels issued a Federal spiny dogfish permit must remove gillnet gear with a mesh size equal to or greater than 5 inches (12.7 cm) and less than 10 inches (25.4 cm) from within the New Jersey Atlantic Sturgeon Bycatch Reduction Area from 8:00 p.m. eastern time each day through 5:00 a.m. eastern time the following day.

(b) Delaware and Maryland Atlantic Sturgeon Bycatch Reduction Area. (1) Area Definition: The Delaware and Maryland Atlantic Sturgeon Bycatch Reduction Area is defined by straight lines connecting the following points in the order stated:

Table 2 to Paragraph (b)
Point | N lat. | W long.
DM1 | 38°27′ | 75°60′
DM2 | 38°21′ | 74°48′
DM3 | 37°30′ | 75°12′
DM4 | 37°48′ | 75°30′
DM1 | 38°27′ | 75°60′

(2) From November 1 through March 31 of each year, vessels issued a Federal spiny dogfish permit must remove roundfish gillnets with a mesh size equal to or greater than 5.25 inches (13.3 cm) and less than 10 inches (25.4 cm) from the water within the Delaware and Maryland Atlantic Sturgeon Bycatch Reduction Area from 8:00 p.m. eastern time each day through 5:00 a.m. eastern time the following day.

(c) Virginia Atlantic Sturgeon Bycatch Reduction Area. (1) Area Definition: The Virginia Atlantic Sturgeon Bycatch Reduction Area is defined by straight lines connecting the following points in the order stated:

Table 3 to Paragraph (c)
Point | N lat. | W long.
VA1 | 37°18′ | 75°54′
VA2 | 36°48′ | 75°36′
VA3 | 36°33′ | 75°51′
VA4 | 36°54′ | 76°6′
VA1 | 37°18′ | 75°54′

(2) From November 1 through March 31 of each year, vessels issued a Federal spiny dogfish permit must remove roundfish gillnets with a mesh size equal to or greater than 5.25 inches (13.3 cm) and less than 10 inches (25.4 cm) from the water within the Virginia Atlantic Sturgeon Bycatch Reduction Area from 8:00 p.m. eastern time each day through 5:00 a.m. eastern time in the following day.

[FR Doc. 2024-17734 Filed 8-9-24; 8:45 am]

BILLING CODE 3510-22-P